DEPARTMENT OF ENERGY

Office of Energy Efficiency and Renewable Energy

New Information Collection

AGENCY: Office of Energy Efficiency and Renewable Energy, U.S. Department of Energy.

ACTION: Notice and Request for Comments.

SUMMARY: The Department of Energy (DOE) invites public comment on a proposed collection of information that DOE is developing for submission to the Office of Management and Budget (OMB) pursuant to the Paperwork Reduction Act of 1995. The proposed collection of information relates to DOE's Superior Energy Performance certification program. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before August 26, 2014. If you anticipate difficulty in submitting comments within that period, contact the person listed in ADDRESSES as soon as possible.

ADDRESSES: Written comments may be sent to Paul Scheihing, EE-5A/Forrestal Building, 1000 Independence Avenue SW., Washington, DC 20585, by fax at 202-586-9234, or by email at paul.scheihing@ee.doe.gov.

FOR FURTHER INFORMATION CONTACT: Requests for additional information or copies of the information collection instrument and instructions should be directed to Paul Scheihing, EE-5A/Forrestal Building, 1000 Independence Avenue SW., Washington, DC 20585, by fax at 202-586-9234, or by email at paul.scheihing@ee.doe.gov.

SUPPLEMENTARY INFORMATION: This information collection request contains:

(1) OMB No.: New.

(2) Information Collection Request Title: Department of Energy Superior Energy Performance™ Certification Program Information Collection Request.

(3) Type of Request: New.

(4) Purpose: This Information Collection Request applies to the Department of Energy (DOE) voluntary certification program for industrial facilities: Superior Energy Performance™ (SEP). The information being collected is needed so as to include participants in the DOE's SEP. SEP is an energy efficiency certification and recognition program for industrial facilities demonstrating energy management excellence and sustained energy savings. SEP builds on the ISO 50001 energy management system standard and provides a rigorous, internationally-recognized business process for companies to continually improve their energy performance. The SEP third-party verification of energy performance improvement is unique in the marketplace, and assists to differentiate certified companies from their competitors. This request for information consists of a voluntary data collection process for SEP participation: To enroll industrial facilities, manage and track certification cycles, and relay the costs and benefits of SEP certification to industry.

There are four types of information to be collected from primary participants: (1) Background data, including contact information and basic information about the facility's experience with energy management—collected in the SEP Enrollment Form; (2) Basic facility information about its energy use, energy consumption, and energy performance indicators—collected in the SEP Application Form; (3) Information on energy performance improvement in SEP-certified facilities—collected in the SEP Energy Performance Improvement Report; (4) Information on the costs and benefits of participating in SEP (optional; not required for SEP certification)—collected in the SEP Voluntary Costs/Benefits Form.

Background data will primarily be used to track basic information about SEP participants and identify opportunities to provide participants with technical assistance. Basic information about a facility's energy use, energy consumption, and energy performance indicators will be used to administer the SEP program and determine readiness for SEP certification audit. Information on energy performance improvement will be used by DOE to manage and track certification cycles, and to track the results of SEP participation. Optional information on costs and benefits of SEP participation will be used to conduct and refine analysis on the costs and benefits of SEP participation, as called for in Executive Order 13624: Accelerating Investment in Industrial Energy Efficiency. Responses to the DOE's Information Collection Request will be voluntary.

(5) Annual Estimated Number of Respondents: 575.

(6) Annual Estimated Number of Total Responses: 475.

(7) Annual Estimated Number of Burden Hours: 650.

(8) Annual Estimated Reporting and Recordkeeping Cost Burden: $31,295.

Statutory Authority: Accelerating Investment in Industrial Energy Efficiency. Executive Order 13624, 77 FR 54779 (Aug. 30, 2012); 42 U.S.C. 16191.

Paul Scheihing,
Technology Manager, Advanced Manufacturing Office.

[FR Doc. 2014-15065 Filed 6-26-14; 8:45 am]

BILLING CODE 6450-01-P